DEPARTMENT OF TRANSPORTATION

Research and Special Programs Administration

Office of Hazardous Materials Safety; Notice of Applications for Modification of Exemption

AGENCY: Research and Special Programs Administration, DOT.

Action: List of Applications for Modification of Exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before June 7, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on May 16, 2000.
J. Suzanne Hedgepeth,
Director, Office of Hazardous Materials, Exemptions and Approvals.

Application No. | Docket No. | Applicant | Modification of exemption
8299-M |  | Pacific Scientific, Duarte, CA (See Footnoote 1) | 8299
10555-M |  | Pacific Scientific HTL/KIN-Tech Division, Durate, CA (See Footnote 2) | 10555
11761-M |  | Vulcan Chemicals, Birmingham, AL (See Footnote 3) | 11761
11826-M |  | Spectra Gases, Inc., Branchburg, NJ (See Footnote 4) | 11826
12378-M | RSPA-1999-6568 | Federal Express, Memphis, TN (See Footnote 5) | 12378
12447-M | RSPA-2000-7236 | Akzo Nobel Coatings, Inc., Norcross, GA (See Footnote 6) | 12447
12448-M | RSPA-2000-7244 | Onyx Environmental Services, L.L.C., Flanders, NJ (See Footnote 7) | 12448
¹ To modify the exemption to increase the service life limit to 24 years of the non-DOT specification pressure vessels for the transportation of certain Division 2.2 compressed gases.
² To modify the exemption to allow for the transportation of an additional Division 2.2 material in an alternative non-DOT specification cylinder.
³ To modify the exemption to eliminate the marking requirements of certain DOT specification and AAR specification tank cars containing a residue of Class 8 materials.
⁴ To modify the exemption to authorize additional Division 2.2 materials transported in DOT-3AL aluminum cylinders.
⁵ To modify the exemption to indicate applicability to companies under subcontract operating under exclusive use for Federal Express for the transportation in commerce of dry ice by cargo aircraft only.
⁶ To reissue the exemption originally issued on an emergency basis authorizing the use of hazard warning labels that do not conform with the specifications in the HMR.
⁷ To reissue the exemption originally issued on an emergency basis for the transportation of anhydrous ammonia in DOT specification cylinders.

[FR Doc. 00-12871 Filed 5-22-00; 8:45am]

BILLING CODE 4910-60-M